DEPARTMENT OF TRANSPORTATION

Federal Aviation Administration

Notice of Reinstatement of 1980 Public Comment Procedures for Requests for Interpretation of the Flight Time, Rest and Duty Period Regulations

AGENCY: Federal Aviation Administration (FAA), DOT.

ACTION: Notice.

SUMMARY: The FAA receives several requests for interpretation of the Flight Time, Rest and Duty Period regulations. The FAA has decided that it would be beneficial to follow the procedures announced in the May 8, 1980 Federal Register Notice (45 FR 30424) to request public comments on the requesters' questions, before the FAA issues its responses. Copies of requests from members of the public will be posted on the DOT public electronic docket, using a specified FAA docket number.

DATES: Effective date: January 1, 2006.

FOR FURTHER INFORMATION CONTACT: Constance M. Subadan, Regulations Division, AGC-200, Office of the Chief Counsel, 800 Independence Avenue, SW., Washington, DC 20591; telephone 202-267-3073.

SUPPLEMENTARY INFORMATION: The FAA has decided to use the public comment procedures it announced and described in 1980. Recently, Continental Airlines proposed that the FAA reinstate, for all requests for interpretation of the flight time, rest and duty period regulations, the procedures that were first described and announced in 1980. Under those procedures, when the FAA received certain requests for interpretation of the flight time, rest and duty period regulations, the FAA was to provide an opportunity to interested persons outside the FAA to present additional facts and to offer their expertise on flight time, rest and duty period issues.

The FAA intends to follow the procedures announced in 1980, subject to the following limitations:

1. Because implementation of the procedures themselves could prove to be extremely time consuming and labor intensive, the FAA intends to observe them in case presenting new issues, i.e., not for “repetitive type questions.” See 45 FR at 30425.

2. Even in situations not involving repetitive type questions, the agency specifically recognized that an interpretation could be issued immediately, without pre-issuance comments. Id. In such a situation, post-issuance comments would be solicited.

3. As noted in the 1980 document, the agency reserves the right to modify or discontinue the use of the procedures at any time at the election of the Office of the Chief Counsel. Id.

Dated: Issued in Washington, DC on December 12, 2005.
Rebecca B. MacPherson,
Assistant Chief Counsel, Regulations Division.

[FR Doc. 05-24128 Filed 12-15-05; 8:45 am]

BILLING CODE 4910-13-M